DEPARTMENT OF DEFENSE

Department of the Army; Corps of Engineers

Coastal Engineering Research Board (CERB); Notice of Meeting

AGENCY: Department of the Army, DoD.

ACTION: Notice of meeting.

SUMMARY: In accordance with Section 10(a)(2) of the Federal Advisory Committee Act (Pub. L. 92-463), announcement is made of the following committee meeting:

Name of Committee: Coastal Engineering Research Board (CERB).

Date of Meeting: March 5-6, 2002.

Place: Golden Inn Hotel and Conference Center, Avalon, New Jersey.

Time: 8 a.m. to 4:30 p.m. (March 5, 2002).; 8 a.m. to 5 p.m. (March 6, 2002).

FOR FURTHER INFORMATION CONTACT: Inquiries and notice of intent to attend the meeting may be addressed to Colonel John W. Morris III, Executive Secretary, U.S. Army Engineer Research and Development Center, Waterways Experiment Station, 3909 Halls Ferry Road, Vicksburg, Mississippi 39180-6199.

SUPPLEMENTARY INFORMATION: Proposed Agenda: The theme of the meeting is “Beach Nourishment performance.” On Tuesday, March 5, the morning session will consist of panel presentations concerning “Overview of Corps Process and Issues (Formulation, Design, Construction, Monitoring, Renourishment)” and panel presentations concerning “State and Local Perspectives on Beach Nourishment Projects.” The afternoon session will consist of panel presentations concerning “Private Sector Experience with Beach Nourishment” and presentations dealing with Federal Emergency Management Agency Perspective on Nourished Beaches and New Jersey Biological Monitoring Study. On Wednesday, March 6, the following topics will be discussed: National Shoreline Management Study, Philadelphia District Beach Nourishment Program, and Adaptive Design of Beach Nourishment Projects. A field trip is planned for part of the morning and afternoon of March 6, followed by an Executive Working Session.

These meetings are open to the public; participation by the public is scheduled for 9:45 a.m. on March 6.

The entire meeting is open to the public, but since seating capacity of the meeting room is limited, advance notice of intent to attend, although not required, is requested in order to assure adequate arrangements. Oral participation by public attendees is encouraged during the time scheduled on the agenda; written statements may be submitted prior to the meeting or up to 30 days after the meeting.

John W. Morris III,
Colonel, Corps of Engineers, Executive Secretary.

[FR Doc. 02-3827 Filed 2-14-02; 10:20 am]

BILLING CODE 3710-61-M